ENVIRONMENTAL PROTECTION AGENCY

[ER-FRL-6252-6]

Environmental Impact Statements; Notice of Availability

Responsible Agency: Office of Federal Activities, General Information (202) 564-7167 or www.epa.gov/oeca/ofa.

Weekly receipt of Environmental Impact Statements

Filed March 20, 2000 Through March 24, 2000

Pursuant to 40 CFR 1506.9.

EIS No. 000080, Final EIS, AFS, UT, Pretty Tree Bench Vegetation Project, Implementation, Dixie National Forest, Escalante Ranger District, Garfield County, UT, Due: May 01, 2000, Contact: Kevin R. Schulkoski (435) 826-5400.

EIS No. 000081, Final EIS, IBR, CA, Groundwater Replenishment System, Implementation to Repurifying Water from Orange County Water District (OCWD) Orange County Sanitation District (OCSD), Funding and COE Section 404 Permit, Orange County, CA, Due: May 01, 2000, Contact: Mr. Del Kidd (702) 293-8698.

EIS No. 000082, Final EIS, TVA, TN, Addition of Electric Generation Peaking and Baseload Capacity at Greenfield Sites, Construction and Operation of Combustion Turbines (CTs), Haywood County, TN, Due: May 01, 2000, Contact: Gregory L. Askew (865) 632-6418.

EIS No. 000083, Final Supplement, FHW, KS, South Lawrence Trafficway Construction, Kansas Turnpike, I-70 to KS-10/Noria Road, New Information concerning KS-10 on the East and US 59 on the West, Funding, COE Section 404 Permit and Right-of-Way Acquisition, Douglas County, KS, Due: May 01, 2000, Contact: David R. Geiger (785) 267-7281.

EIS No. 000084, Draft Supplement, AFS, CO, Legislative—DSEIS—North Fork of the South Platte Rivers Wild and Scenic River Study for the Designation or Non-Designation into the National Wild and Scenic Rivers System, Pike and San Isabel National Forests, Comache and Cimarron National Grasslands, Douglas, Jefferson, Park and Teller Counties, CO, Due: June 29, 2000, Contact: Abigail R. Kimbell (719) 545-8737.

EIS No. 000085, Final EIS, FTA, VA, Norfolk-Virginia Beach Light Rail Transit System East/West Corridor Project, Transportation Improvements, Funding and COE Section 404 Permit, Tidewater Transportation District Commission, City of Norfolk and City of Virginia Beach, VA, Due: May 01, 2000, Contact: Michael McCollum (215) 656-7100.

EIS No. 000086, Final EIS, FTA, CA, Downtown Sacramento—Folsom Corridor, Improvement of Transit Services, US 50/Folsom Boulevard, Funding and COE Section 404 Permit, Transportation Systems Management (TSM) and Light Rail Transit (LRT), City and County of Sacramento, CA, Due: May 01, 2000, Contact: Bob Hom (415) 744-3133.

Dated: March 28, 2000.
Joseph C. Montgomery,
Director, NEPA Compliance Division, Office of Federal Activities.

[FR Doc. 00-8022 Filed 3-30-00; 8:45 am]

BILLING CODE 6560-50-U